DEPARTMENT OF ENERGY

Federal Energy Regulatory Commission

[Docket No. PF17-4-000]

Jordan Cove Energy Project, L.P.; Pacific Connector Gas Pipeline, L.P.; Notice of Intent To Prepare an Environmental Impact Statement for the Planned Jordan Cove LNG Terminal and Pacific Connector Pipeline Projects, Request for Comments on Environmental Issues, and Notice of Public Scoping Sessions; Correction

The staff of the Federal Energy Regulatory Commission (FERC or Commission) will prepare an environmental impact statement (EIS) that will discuss the impacts of the planned Jordan Cove LNG Terminal and Pacific Connector Pipeline Projects (collectively referred to as the Project). The FERC is the lead federal agency for the preparation of the EIS. The U.S. Army Corps of Engineers (USACE), U.S. Department of Energy (DOE), Bureau of Land Management (BLM), Bureau of Reclamation (Reclamation), U.S. Forest Service (Forest Service), and the Bonneville Power Administration (BPA) are Cooperating Agencies and can adopt the EIS for their respective purposes and permitting actions.

Jordan Cove Energy Project, L.P. (JCEP) plans to construct and operate a liquefied natural gas (LNG) production, storage, and export facility in Coos County, Oregon. Pacific Connector Gas Pipeline, L.P. (PCGP) plans to construct and operate an interstate natural gas transmission pipeline and associated facilities in Coos, Douglas, Jackson, and Klamath Counties, Oregon. The Commission will use this EIS in its decision-making process to determine whether the Jordan Cove LNG Terminal is in the public interest and the Pacific Connector Pipeline is in the public convenience and necessity. Other federal agencies may adopt the EIS when making their respective determinations or decisions.

This notice announces the opening of the public comment period, commonly referred to as scoping. You can make a difference by providing your comments. Your comments should focus on potential environmental impacts, reasonable alternatives, and measures to avoid or lessen environmental impacts. This scoping opportunity is for the entire Project, including actions and proposed plan amendments of the Cooperating Agencies listed above. The Forest Service also seeks comments specific to the 2012 planning rule requirements at §§ 219.8 through 219.11 that are likely to be directly related to the proposed amendments. To ensure that your comments are timely and properly recorded, please send your comments so that the Commission receives them in Washington, DC on or before July 10, 2017.

If you submitted comments on this project before February 10, 2017, you will need to refile those comments in FERC Docket No. PF17-4-000 to ensure they are considered as part of this proceeding. If you sent comments on a previous iteration of this project, you will also need to refile those comments in FERC Docket No. PF17-4-000.

This notice is being sent to the Commission's current environmental mailing list for the Project. State and local government representatives should notify their constituents of this project and encourage them to comment on their areas of concern.

If you are a landowner receiving this notice, a PCGP company representative may contact you about the acquisition of an easement to construct, operate, and maintain the planned pipeline. The company would seek to negotiate a mutually acceptable agreement. However, if the Commission approves the project, that approval conveys with it the right of eminent domain. Therefore, if easement negotiations fail to produce an agreement, the pipeline company could initiate condemnation proceedings where compensation would be determined in accordance with state law.

A fact sheet prepared by the FERC entitled An Interstate Natural Gas Facility On My Land? What Do I Need To Know? is available for viewing on the FERC Web site (www.ferc.gov). This fact sheet addresses a number of typically asked questions, including the use of eminent domain and how to participate in the Commission's proceedings.

Public Participation

For your convenience, there are four methods you can use to submit your comments to the Commission. The Commission encourages electronic filing of comments and has expert staff available to assist you by phone at (202) 502-8258 or via email at FercOnlineSupport@ferc.gov. Please carefully follow these instructions so that your comments are properly recorded. If you include personal information along with your comments, please be aware that this information (address, phone number, and/or email address) would become publicly available in the Commission's eLibrary.

You can file your comments electronically using the eComment feature on the Commission's Web site (www.ferc.gov) under the link to Documents and Filings. This is an easy method for submitting brief, text-only comments on a project;

You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

You can file a paper copy of your comments by mailing them to the following address. Be sure to include docket number PF17-4-000 with your submission: Kimberly D. Bose, Secretary, Federal Energy Regulatory Commission, 888 First Street NE., Room 1A, Washington, DC 20426.

In lieu of sending written or electronic comments, the Commission invites you to attend one the public scoping sessions its staff will conduct in the project area, scheduled as follows:

Date and time | Location
Tuesday, June 27, 2017, 4:00 p.m. to 7:00 p.m | Sunset Middle School, Library and Commons Rooms, 245 South Cammann Street, Coos Bay, OR 97420.
Wednesday, June 28, 2017, 4:00 p.m. to 7:00 p.m | Umpqua Community College, Jackson Hall, Rooms 11 & 12, 1140 Umpqua College Road, Roseburg, OR 97470.
Thursday, June 29, 2017, 4:00 p.m. to 7:00 p.m | Oregon Institute of Technology, College Union Building, Mt. Bailey and Mt. Theilsen Rooms, 3201 Campus Drive, Klamath Falls, OR 97601.

The primary goal of these scoping sessions is to have you identify the specific environmental issues and concerns that should be considered in the EIS to be prepared for this project. Individual verbal comments will be taken on a one-on-one basis with a court reporter. This format is designed to receive the maximum amount of verbal comments in a convenient way during the timeframe allotted.

Each scoping session is scheduled from 4:00 p.m. to 7:00 p.m. Pacific Daylight Time. There will be no formal presentation by Commission staff when the session opens. If you wish to provide comments, the Commission staff will issue numbers in the order of your arrival. Please see Appendix 2 ¹ for additional information on the session format and conduct expectations.

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Your comments will be recorded by the court reporter (with FERC staff or representative present) and become part of the public record for this proceeding. Transcripts will be publicly available through the FERC's eLibrary system (see below for instructions on using eLibrary). If a significant number of people are interested in providing verbal comments, a time limit of 5 minutes may be implemented for each commenter.

Verbal comments hold the same weight as written or electronically submitted comments. Although there will not be a formal presentation, Commission staff will be available throughout the comment session to answer your questions about the environmental review process.

The submission of timely and specific comments, whether submitted in writing or orally at a scoping session, can affect a reviewer's ability to participate in a subsequent administrative or judicial review of BLM and/or Forest Service decisions. Comments concerning BLM and Forest Service actions submitted anonymously will be accepted and considered; however such anonymous submittals would not provide the commenters with standing to participate in administrative or judicial review of BLM and Forest Service decisions.

Summary of the Planned Project

JCEP plans to construct and operate an LNG export terminal on the North Spit of Coos Bay in Coos County, Oregon. The terminal would include gas inlet facilities, a metering station, a gas conditioning plant, five liquefaction trains and associated equipment, two full-containment LNG storage tanks, an LNG transfer line, LNG ship loading facilities, a marine slip, a marine offloading facility, a new access channel between the Coos Bay Navigation Channel and the new marine slip, and enhancements to the existing Coos Bay Navigation Channel at four turns. In addition, the terminal would include emergency and hazard, electrical, security, control, and support systems, administrative buildings, and a temporary workforce housing facility. The LNG terminal would be designed to liquefy about 1.04 billion cubic feet per day of LNG for export to markets across the Pacific Rim.

PCGP plans to construct and operate an approximately 235-mile-long, 36-inch-diameter interstate natural gas transmission pipeline and associated aboveground facilities. The pipeline would originate near Malin in Klamath County, Oregon, traverse Douglas and Jackson Counties, and terminate (at the LNG Terminal) in Coos County, Oregon. The pipeline would be capable of transporting about 1.2 billion cubic feet per day of natural gas. The associated aboveground facilities would include the new Klamath Compressor Station (61,500 horsepower) near Malin, Oregon; 3 new meter stations; 5 new pig launchers and receivers; 17 mainline block valves; and a gas control communication system.

The general locations of the Project facilities are shown on maps included in Appendix 1. In addition, PCGP provides detailed mapping of its pipeline route on its Web page at http://pacificconnectorgp.com/project-overview/.

Land Requirements for Construction

About 530 acres of land would be disturbed by construction of the LNG Terminal. JCEP owns about 300 acres of this land, and the remaining 230 acres would be leased from private landowners. Following construction, about 170 acres would be retained for operation of the LNG terminal facilities.

About 5,060 acres of land would be disturbed by construction of the Pacific Connector Pipeline Project. Following construction, a 50-foot-wide easement, totaling about 1,415 acres, would be permanently maintained for operation of the pipeline. The majority of the remaining 3,620 acres disturbed by pipeline construction would be restored and returned to previous use, while about 25 acres would be maintained for a new compressor station and other new aboveground facilities. Land ownership of the approximately 235 miles of permanent pipeline operational easement is approximately 162 miles private land, 40 miles BLM, 31 miles Forest Service, and 2 miles Reclamation.

The EIS Process

The National Environmental Policy Act (NEPA) requires the Commission to take into account the environmental impacts that could result from an action whenever it considers the authorization of LNG facilities under Section 3 of the Natural Gas Act and pipeline facilities under Section 7 of the Natural Gas Act. NEPA also requires the Commission to discover and address concerns the public may have about proposals. This process is commonly referred to as scoping. The main goal of the scoping process is to identify the important environmental issues the Commission's staff should focus on in the EIS. By this notice, the Commission requests public comments on the scope of issues to be addressed in the EIS. The FERC and the Cooperating Agencies will consider all filed comments during the preparation of the EIS.

The EIS will discuss the impacts that could occur as a result of the construction and operation of the planned Project under these general headings:

• Geology and soils;

• water resources and wetlands;

• vegetation, fisheries, and wildlife;

• protected species;

• land use;

• socioeconomics;

• cultural resources;

• air quality and noise;

• public safety and reliability; and

• cumulative impacts.

The FERC and the Cooperating Agencies will also evaluate reasonable alternatives to the planned project or portions thereof; and make recommendations on how to avoid or minimize impacts on the various resource areas.

Although no formal application has been filed with FERC, FERC has already initiated a review of the project under the Commission's pre-filing process. The purpose of the pre-filing process is to encourage early involvement of interested stakeholders and to identify and resolve issues before the FERC receives an application. As part of its pre-filing review, FERC has begun to contact interested federal and state agencies to discuss their involvement in the scoping process and the preparation of the EIS.

As stated previously, the FERC will be the lead federal agency for the preparation of the EIS. The USACE, BLM, Reclamation, and Forest Service all have NEPA responsibilities related to their respective permitting actions, and can adopt the EIS for their own agency's purposes. The BLM, Reclamation, and Forest Service intend to adopt this EIS to evaluate the effects of the pipeline portion of the Project on lands and facilities managed by each respective agency, and to support decision-making regarding the issuance of and concurrence with the right-of-way grant and the associated plan amendments.²

² BLM land management plans are called “Resource Management Plans” or RMPs. Forest Service land management plans are called “Land and Resource Management Plans” or LRMPs. The term “land management plan” is generic and may apply to either an RMP or LRMP.

The EIS will present the FERC's and the Cooperating Agencies' independent analysis of the issues. The FERC will publish and distribute the draft EIS for public comment. After the comment period, the FERC and the Cooperating Agencies will consider all timely comments and revise the document, as necessary, before issuing a final EIS. To ensure the FERC and the Cooperating Agencies have the opportunity to consider and address your comments, please carefully follow the instructions in the Public Participation section.

With this notice, the FERC is asking agencies with jurisdiction by law and/or special expertise with respect to environmental issues related to this project to formally cooperate with us in the preparation of the EIS.³ Agencies that would like to request cooperating agency status should follow the instructions for filing comments provided in the Public Participation section.

³ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, this notice initiates consultation with Oregon's State Historic Preservation Office (SHPO), and solicits its views and those of other government agencies, interested Indian tribes, and the public on the Project's potential effects on historic properties.⁴ The project-specific Area of Potential Effects (APE) will be defined in consultation with the SHPO as the Project develops. On natural gas facility projects, the APE at a minimum encompasses all areas subject to ground disturbance (examples include LNG terminal site, pipeline construction work area, contractor/equipment storage yards, and access roads). The EIS for this Project will document the findings on the impacts on historic properties and summarize the status of consultations under section 106.

⁴ The Advisory Council on Historic Preservation regulations are at Title 36, Code of Federal Regulations, Part 800. Those regulations define historic properties as any prehistoric or historic district, site, building, structure, or object included in or eligible for inclusion in the National Register of Historic Places.

Currently Identified Environmental Issues

The Commission's environmental staff has already identified several issues that merit attention based on a preliminary review of the planned facilities, the environmental information provided by the applicants, analysis conducted previously, and early comments filed with FERC. This preliminary list of issues may change based on your comments and further analysis. Preliminary issues include:

Reliability and safety of LNG carrier traffic in Coos Bay, the LNG terminal, and natural gas pipeline;

impacts on aquatic resources from dredging the LNG terminal access channel and slip, and from multiple pipeline crossings of surface waters;

potential impacts on the LNG Terminal resulting from an earthquake or tsunami;

impacts of pipeline construction on federally listed threatened and endangered species, including salmon, marbled murrelet, and northern spotted owl; and

impacts of pipeline construction on private landowners, including use of eminent domain to obtain right-of-way.

Preliminary Planning Criteria Identified by the BLM

The BLM Preliminary Planning Criteria for its proposed land management plan amendments include:

Impacts to stand function for listed species, specifically northern spotted owl and marbled murrelet in BLM-managed Late Successional Reserves (LSR); and

consent by the Federal surface managing agencies, Forest Service and Reclamation.

Preliminary Issues and Planning Criteria Identified by the Forest Service

The Forest Service has identified preliminary issues for its proposed land and resource management plan (LRMP) amendments. The issues include:

Effects of proposed amendments on Survey and Manage species and their habitat;

effects of the proposed amendments on LSRs; and

effects of the proposed amendments on Riparian Reserves, detrimental soil conditions, and Visual Quality Objectives.

Planning Rule Requirements for LRMP Amendments

The Forest Service seeks public input on issues and planning rule requirements on proposed amendments of their Forest land management plans related to the Pacific Connector Pipeline Project. Additional information regarding the proposed amendments is included at the end of this NOI.

Proposed Actions of the BLM

The purpose of and need for the proposed action by the BLM is to respond to a right-of-way grant application originally submitted by Pacific Connector L.P. to construct, operate, maintain, and eventually decommission a natural gas pipeline that crosses lands and facilities administered by the BLM, Reclamation, and Forest Service. In addition, there is a need for the BLM to consider amending affected District land management plans to make provision for the Pacific Connector right-of-way. Additional detail on proposed actions by the BLM is provided at the end of this NOI.

Proposed Actions of the Forest Service

The purpose of and need for the proposed action by the Forest Service is to consider amending affected National Forest land management plans to make provision for the Pacific Connector right-of-way. The Responsible Official for amendment of Forest Service LRMPs is the Forest Supervisor of the Umpqua National Forest. If the Forest Service adopts the FERC EIS for the Pacific Connector Pipeline Project (in FERC Docket No. PF17-4-000), the Forest Supervisor of the Umpqua National Forest will make the following decisions and determinations:

Decide whether to amend the LRMPs of the Umpqua, Rogue River, and Winema National Forests as proposed or as described in an alternative.

Additional detail on proposed actions by the Forest Service is provided at the end of this NOI.

Environmental Mailing List

The environmental mailing list includes Federal, State, and local government representatives and agencies; elected officials; environmental and public interest groups; Native American Tribes; other interested parties; and local libraries and newspapers. This list also includes all affected landowners (as defined in the Commission's regulations), whose property may be used temporarily for project purposes, or who own homes within certain distances of aboveground facilities, and anyone who submits comments on the Project. The FERC will update the environmental mailing list as the analysis proceeds to ensure that the information related to this environmental review is sent to all individuals, organizations, and government entities interested in and/or potentially affected by the planned project.

Copies of the draft EIS will be sent to the environmental mailing list for public review and comment. If you would prefer to receive a paper copy of the document instead of a compact disc or would like to remove your name from the mailing list, please return the attached Information Request (Appendix 2).

Becoming an Intervenor

Once JCEP and PCGP file applications with the Commission, you may want to become an “intervenor,” which is an official party to the Commission's proceeding. Intervenors play a more formal role in the process and are able to file briefs, appear at hearings, and be heard by the courts if they choose to appeal the Commission's final ruling. An intervenor formally participates in the proceeding by filing a request to intervene. Motions to intervene are more fully described at http://www.ferc.gov/resources/guides/how-to/intervene.asp. Instructions for becoming an intervenor are in the “Document-less Intervention Guide” under the “e-filing” link on the Commission's Web site. Please note that the Commission will not accept requests for intervenor status at this time. You must wait until the Commission receives a formal application for the project.

BLM Administrative Remedy Process

Under the provisions of 43 CFR 1610.5-2, proposed decision(s) of the BLM to amend land management plans are subject to protest with the Director of the BLM following publication of the Final EIS. In accordance with 43 CFR, part 4, the BLM's decision on the application for a right-of-way grant will be subject to appeal to the Interior Board of Land Appeals.

Administrative Review of Forest Service Decisions To Amend Land Management Plans

The proposed Forest Service plan amendments are being developed in accordance with the planning regulations at 36 CFR 219 (2012). Decisions by the Forest Service to approve “plan level” amendments to Land Management Plans (proposed amendments UNF-4 and RRNF-7 in this Notice) are subject to the Pre-Decisional Administrative Review Process Regulations at 36 CFR 219 subpart B. The term “plan level” refers to plan amendments that would apply to future management actions.

Decisions by the Forest Service to approve “project-specific” plan amendments (proposed amendments UNF-1 thru 3, RRNF-2 thru 6, and WNF-1 thru 5 in this Notice) are subject to the Administrative Review Process of 36 CFR 218 Subpart A and B, in accordance with 36 CFR 219.59 (b). The term “project specific” refers to amendments that would only apply to the proposed project and would not apply to any future management actions.

The Forest Service concurrence to BLM to issue a right-of-way grant would not be a decision subject to the NEPA and, therefore, would not be subject to the Forest Service administrative review procedures.

Additional Information

Additional information about the Project is available from the Commission's Office of External Affairs, at (866) 208-FERC, or on the FERC Web site (www.ferc.gov) using the eLibrary link. Click on the eLibrary link, click on “General Search” and enter the docket number, excluding the last three digits in the Docket Number field (i.e., PF17-4). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: June 9, 2017.
Nathaniel J. Davis, Sr.,
Deputy Secretary.

BLM Proposed Actions and Forest Service Planning Rule Requirements

Forest Service Planning Rule Requirements for LRMP Amendments

The Forest Service seeks public input on issues and planning rule requirements on proposed amendments of their Forest land management plans related to the Pacific Connector Pipeline Project. On December 15, 2016 the Department of Agriculture Under Secretary for Natural Resources and Environment issued a final rule that amended the 36 CFR 219 regulations pertaining to National Forest System Land Management Planning (the planning rule) (81 FR 90723, 90737). The amendment to the 219 planning rule clarified the Department's direction for amending LRMPs. The Department also added a requirement for amending a plan for the responsible official to provide in the initial notice “which substantive requirements of §§ 219.8 through 219.11 are likely to be directly related to the amendment” (36 CFR 219.13(b)(2), 81 FR at 90738). Whether a rule provision is directly related to an amendment is determined by any one of the following: The purpose for the amendment, a beneficial effect of the amendment, a substantial adverse effect of the amendment, or a lessening of plan protections by the amendment. The proposed Forest Service plan amendments described below (under Amendments of Forest Service Land Management Plans), include a description of the “substantive requirements of §§ 219.8 through 219.11” that are likely to be directly related to each amendment.

Proposed Actions of the BLM

The purpose of and need for the proposed action by the BLM is to respond to a right-of-way grant application originally submitted by Pacific Connector L.P. to construct, operate, maintain, and eventually decommission a natural gas pipeline that crosses lands and facilities administered by the BLM, Reclamation, and Forest Service. In addition, there is a need for the BLM to consider amending affected District land management plans to make provision for the Pacific Connector right-of-way.

The proposed action of the BLM has two components. First, the BLM would amend the Northwestern and Coastal Oregon ROD/RMP and the Southwestern Oregon ROD/RMP. The BLM would consider one or more amendments to:

Make changes to land use allocations along the Pacific Connector Gas Pipeline route;

Make changes to the management direction for Late Successional Reserves (LSR) specifically where the Pacific Connector Gas Pipeline route crosses LSR, for this project only;

Consider designating a utility corridor coinciding with the Pacific Connector Gas Pipeline route;

Make changes to the right-of-way Avoidance Areas specifically where the Pacific Connector Gas Pipeline route would cross these areas.

Second, in accordance with 43 CFR 2882.3(i), the BLM would consider a right-of-way grant in response to Pacific Connector's application for the project to occupy federal lands, with the written concurrence of the Forest Service and Reclamation. Each agency may submit specific stipulations, including mitigation measures, for inclusion in the right-of-way grant related to lands, facilities, and easements within their respective jurisdictions.

The Secretary of the Interior has delegated to the BLM the authority, under the Mineral Leasing Act of 1920, to grant a right-of-way in response to Pacific Connector's application for a natural gas transmission pipeline across federal lands, with consent of affected surface managing agencies. The Responsible Official for amendments of BLM RMPs and issuance of the right-of-way grant, should one be issued, is the BLM Oregon/Washington State Director. Reclamation's Responsible Official for concurrence of the right-of-way grant, if issued by BLM, is the Area Manager of the Mid-Pacific Region's Klamath Basin Area Office.

If the BLM adopts the FERC EIS for the Pacific Connector Pipeline Project (in FERC Docket No. PF17-4-000), the Oregon/Washington State Director of the BLM would use this EIS in the decision-making process to:

Grant, grant with conditions, or deny the right-of-way application, and;

Consider associated amendments to the Northwestern and Coastal Oregon ROD/RMP and the Southwestern Oregon ROD/RMP where the Project does not conform to these plans.

Proposed Actions of the Forest Service

The purpose of and need for the proposed action by the Forest Service is to consider amending affected National Forest land management plans to make provision for the Pacific Connector right-of-way. The Responsible Official for amendment of Forest Service LRMPs is the Forest Supervisor of the Umpqua National Forest. If the Forest Service adopts the FERC EIS for the Pacific Connector Pipeline Project (in FERC Docket No. PF17-4-000), the Forest Supervisor of the Umpqua National Forest will make the following decisions and determinations:

Decide whether to amend the LRMPs of the Umpqua, Rogue River, and Winema National Forests as proposed or as described in an alternative.

Amendment of Forest Service Land Management Plans

FS-1—Project-Specific Amendment To Exempt Management Recommendations for Survey and Manage Species on the Umpqua National Forest, Rogue River National Forest, and Winema National Forest LRMPs

Applicable National Forest LRMPs would be amended to exempt certain known sites within the area of the proposed Pacific Connector right-of-way grant from the Management Recommendations required by the 2001 “Record of Decision and Standards and Guidelines for Amendments to the Survey and Manage, Protection Buffer, and other Mitigation Measures Standards and Guidelines. For known sites within the proposed right-of-way that cannot be avoided, the 2001 Management Recommendations for protection of known sites of Survey and Manage species would not apply. For known sites located outside the proposed right-of-way but with an overlapping protection buffer only that portion of the buffer within the right-of-way would be exempt from the protection requirements of the Management Recommendations. Those Management Recommendations would remain in effect for that portion of the protection buffer that is outside of the right of way. The proposed amendment would not exempt the Forest Service from the requirements of the 2001 Survey and Manage Record of Decision, as modified, to maintain species persistence for affected Survey and Manage species within the range of the northern spotted owl. This is a project-specific plan amendment applicable only to the Pacific Connector Pipeline Project and would not change future management direction for any other project. The amendment would provide an exception from these standards for the Pacific Connector Project and include specific mitigation measures and project design requirements for the project.

The 36 CFR 219 planning rule requirements that are likely to be directly related to this amendment include:

§ 219.9(a)(2)(ii)—[the plan must include plan components to maintain or restore] “Rare aquatic and terrestrial plant and animal communities.”

§ 219.9(b)(1)—The responsible official shall determine whether or not the plan components required by paragraph (a) provide ecological conditions necessary to: . . . maintain viable populations of each species of conservation concern within the plan area.

If this proposed amendment is determined to be directly related to the substantive rule requirements, the Responsible Official must apply those requirements within the scope and scale of the amendment and, if necessary, make adjustments to the amendment to meet these rule requirements (36 CFR 219.13 (b)(5) and (6)).

Amendment of the Umpqua National Forest LRMP

UNF-1—Project-Specific Amendment To Allow Removal of Effective Shade on Perennial Streams:

The Umpqua National Forest LRMP would be amended to exempt the Standards and Guidelines for Fisheries (Umpqua National Forest LRMP, page IV-33, Forest-Wide) to allow the removal of effective shading vegetation where perennial streams are crossed by the Pacific Connector right-of-way. This change would potentially affect an estimated total of three acres of effective shading vegetation at approximately five perennial stream crossings in the East Fork of Cow Creek subwatershed from pipeline mileposts (MP) 109 to 110 in Sections 16 and 21, T.32S., R.2W., W.M., OR. The amendment would provide an exception from these standards for the Pacific Connector Pipeline Project and include specific mitigation measures and project design requirements for the project. This is a project-specific plan amendment applicable only to the Pacific Connector Pipeline Project and would not change future management direction for any other project.

The 36 CFR 219 planning rule requirements that are likely to be directly related to this amendment include: § 219.8(a)(3)(i)—The plan must include plan components “to maintain or restore the ecological integrity of riparian areas in the plan area, including plan components to maintain or restore structure, function, composition, and connectivity.”

UNF-2—Project-Specific Amendment To Allow the Pacific Connector Pipeline Project in Riparian Areas:

The Umpqua National Forest LRMP would be amended to change prescriptions C2-II (LRMP IV-173) and C2-IV (LRMP IV-177) to allow the Pacific Connector pipeline route to run parallel to the East Fork of Cow Creek for approximately 0.1 mile between about pipeline MPs 109.5 and 109.6 in Section 21, T.32S., R.2W., W.M., OR. This change would potentially affect approximately one acre of riparian vegetation along the East Fork of Cow Creek. The amendment would provide an exception from these standards for the Pacific Connector Pipeline Project and include specific mitigation measures and project design requirements for the project. This is a project-specific plan amendment applicable only to the Pacific Connector Pipeline Project and would not change future management direction for any other project.

The 36 CFR 219 planning rule requirements that are likely to be directly related to this amendment include: § 219.8(a)(3)(i)—The plan must include plan components to ``maintain or restore the ecological integrity of riparian areas in the plan area, including plan components to maintain or restore structure, function, composition, and connectivity.''

UNF-3—Project-Specific Amendment To Exempt Limitations on Detrimental Soil Conditions Within the Pacific Connector Right-of-Way in All Management Areas

The Umpqua National Forest LRMP would be amended to exempt limitations on the area affected by detrimental soil conditions from displacement and compaction within the Pacific Connector right-of-way. Standards and Guidelines for Soils (LRMP page IV-67) requires that not more than 20 percent of the project area have detrimental compaction, displacement, or puddling after completion of a project. The amendment would provide an exception from these standards for the Pacific Connector Pipeline Project and include specific mitigation measures and project design requirements for the project. This is a project-specific plan amendment applicable only to the Pacific Connector Pipeline Project and would not change future management direction for any other project.

The 36 CFR 219 planning rule requirements that are likely to be directly related to this amendment include: § 219.8(a)(2)(ii)—[The plan must include plan components to maintain or restore] soils and soil productivity, including guidance to reduce soil erosion and sedimentation.

UNF-4—Reallocation of Matrix Lands to LSR

The Umpqua National Forest LRMP would be amended to change the designation of approximately 588 acres from Matrix land allocations to the LSR land allocation in Sections 7, 18, and 19, T.32S., R.2W.; and Sections 13 and 24, T.32S., R.3W., W.M., OR. This change in land allocation is proposed to partially mitigate the potential adverse impact of the Pacific Connector Pipeline Project on LSR 223 on the Umpqua National Forest. This is a plan level amendment that would change future management direction for the lands reallocated from Matrix to LSR.

The 36 CFR 219 planning rule requirements that are likely to be directly related to this amendment include:

§ 219.8(a)(1)(i)—[the plan must include plan components to maintain or restore] Interdependence of terrestrial and aquatic ecosystems in the plan area.

§ 219.8(b)(1)—[the plan must include plan components to guide the plan area's contribution to social and economic sustainability] social, cultural and economic conditions relevant to the area influenced by the plan.

§ 219.9(b)(1) “The responsible official shall determine whether or not the plan components required by paragraph (a) of this section provide the ecological conditions necessary to: contribute to the recovery of federally listed threatened and endangered species, conserve proposed and candidate species, and maintain a viable population of each species of conservation concern within the plan area,” and

§ 219.9(a)(2)(ii)—[the plan must include plan components to maintain or restore] “Rare aquatic and terrestrial plant and animal communities.”

If any of the proposed amendments to the Umpqua NF LRMP described above are determined to be “directly related” to a substantive rule requirement, the Responsible Official must apply that requirement within the scope and scale of the proposed amendment and, if necessary, make adjustments to the proposed amendment to meet the rule requirement (36 CFR 219.13 (b)(5) and (6)).

Amendment of the Rogue River National Forest LRMP

RRNF-2—Project Specific Amendment of Visual Quality Objectives (VQO) on the Big Elk Road

The Rogue River National Forest LRMP would be amended to change the VQO where the Pacific Connector pipeline route crosses the Big Elk Road at about pipeline MP 161.4 in Section 16, T.37S., R.4E., W.M., OR, from Foreground Retention (Management Strategy 6, LRMP page 4-72) to Foreground Partial Retention (Management Strategy 7, LRMP page 4-86) and allow 10-15 years for amended VQO to be attained. The existing Standards and Guidelines for VQO in Foreground Retention where the Pacific Connector pipeline route crosses the Big Elk Road require that VQOs be met within one year of completion of the project and that management activities not be visually evident. The amendment would provide an exception from these standards for the Pacific Connector Pipeline Project and include specific mitigation measures and project design requirements for the project. This is a project-specific plan amendment that would apply only to the Pacific Connector Pipeline Project in the vicinity of Big Elk Road and would not change future management direction for any other project.

The 36 CFR 219 planning rule requirements that are likely to be directly related to this amendment include:

§ 219.10(a)(1)—[. . .the responsible official shall consider: . . .] (1) Aesthetic values,. . . scenery,. . . viewsheds. . . .

§ 219.10(b)(i)—[the responsible official shall consider] Sustainable recreation; including recreation settings, opportunities, . . . and scenic character. . . .

RRNF-3—Project—Specific Amendment of VQO on the Pacific Crest Trail

The Rogue River National Forest LRMP would be amended to change the VQO where the Pacific Connector pipeline route crosses the Pacific Crest Trail at about pipeline MP 168 in Section 32, T.37S., R.5E., W.M., OR, from Foreground Partial Retention (Management Strategy 7, LRMP page 4-86) to Modification (USDA Forest Service Agricultural Handbook 478) and to allow 15-20 years for amended VQOs to be attained. The existing Standards and Guidelines for VQOs in Foreground Partial Retention in the area where the Pacific Connector pipeline route crosses the Pacific Crest Trail require that visual mitigation measures meet the stated VQO within three years of the completion of the project and that management activities be visually subordinate to the landscape. The amendment would provide an exception from these standards for the Pacific Connector Pipeline Project and include specific mitigation measures and project design requirements for the project. This is a project-specific plan amendment that would apply only to the Pacific Connector Pipeline Project in the vicinity of the Pacific Crest Trail and would not change future management direction for any other project.

The 36 CFR 219 planning rule requirements that are likely to be directly related to this amendment include:

§ 219.10(a)(1)—[. . .the responsible official shall consider: . . .] (1) Aesthetic values,. . . scenery,. . . viewsheds. . . .

§ 219.10(b)(i)—[the responsible official shall consider] Sustainable recreation; including recreation settings, opportunities, . . . and scenic character. . . .

RRNF-4—Project-Specific Amendment of Visual Quality Objectives Adjacent to Highway 140

The Rogue River National Forest LRMP would be amended to allow 10-15 years to meet the VQO of Middleground Partial Retention between Pacific Connector pipeline MPs 156.3 to 156.8 and 157.2 to 157.5 in Sections 11 and 12, T.37S., R.3E., W.M., OR. Standards and Guidelines for Middleground Partial Retention (Management Strategy 9, LRMP Page 4-112) require that VQOs for a given location be achieved within three years of completion of the project. Approximately 0.8 miles or 9 acres of the Pacific Connector right-of-way in the Middleground Partial Retention VQO visible at distances of 0.75 to 5 miles from State Highway 140 would be affected by this amendment. The amendment would provide an exception from these standards for the Pacific Connector Pipeline Project and include specific mitigation measures and project design requirements for the project. This is a project-specific plan amendment that would apply only to the Pacific Connector Pipeline Project in Sections 11 and 12, T.37S., R.3E., W.M., OR, and would not change future management direction for any other project.

The 36 CFR 219 planning rule requirements that are likely to be directly related to this amendment include:

§ 219.10(a)(1)—[. . .the responsible official shall consider: . . .] (1) Aesthetic values,. . . scenery,. . . viewsheds. . . .

§ 219.10(b)(i)—[the responsible official shall consider] Sustainable recreation; including recreation settings, opportunities, . . . and scenic character. . . .

RRNF-5—Project-Specific Amendment To Allow the Pacific Connector Pipeline Project in Management Strategy 26, Restricted Riparian Areas

The Rogue River National Forest LRMP would be amended to allow the Pacific Connector right-of-way to cross the Restricted Riparian land allocation. This would potentially affect approximately 2.5 acres of the Restricted Riparian Management Strategy at one perennial stream crossing on the South Fork of Little Butte Creek at about pipeline MP 162.45 in Section 15, T.37S., R.4E., W.M., OR. Standards and Guidelines for the Restricted Riparian land allocation prescribe locating transmission corridors outside of this land allocation (Management Strategy 26, LRMP page 4-308,). The amendment would provide an exception from these standards for the Pacific Connector Pipeline Project and include specific mitigation measures and project design requirements for the project. This is a site-specific amendment applicable only to the Pacific Connector Pipeline Project and would not change future management direction for any other project.

The 36 CFR 219 planning rule requirements that are likely to be directly related to this amendment include:

§ 219.8(a)(3)(i)—The plan must include plan components to maintain or restore the ecological integrity of riparian areas in the plan area, including plan components to maintain or restore structure, function, composition, and connectivity

RRNF-6—Site-Specific Amendment To Exempt Limitations on Detrimental Soil Conditions Within the Pacific Connector Right-of-Way in All Management Areas

The Rogue River National Forest LRMP would be amended to exempt limitations on areas affected by detrimental soil conditions from displacement and compaction within the Pacific Connector right-of-way in all affected Management Strategies. Standards and Guidelines for detrimental soil impacts in affected Management Strategies require that no more than 10 percent of an activity area should be compacted, puddled or displaced upon completion of project (not including permanent roads or landings). No more than 20 percent of the area should be displaced or compacted under circumstances resulting from previous management practices including roads and landings. Permanent recreation facilities or other permanent facilities are exempt (RRNF LRMP 4-41, 4-83, 4-97, 4-123, 4-177, 4-307). The amendment would provide an exception from these standards for the Pacific Connector Pipeline Project and include specific mitigation measures and project design requirements for the project. This is a project-specific plan amendment applicable only to the Pacific Connector Pipeline Project and would not change future management direction for any other project.

The 36 CFR 219 planning rule requirements that are likely to be directly related to this amendment include:

219.8(a)(2)(ii)—[The plan must include plan components to maintain or restore] soils and soil productivity, including guidance to reduce soil erosion and sedimentation.

RRNF-7—Reallocation of Matrix Lands to LSR

The Rogue River National Forest LRMP would be amended to change the designation of approximately 512 acres from Matrix land allocations to the LSR land allocation in Section 32, T.36S., R.4E. W.M., OR. This change in land allocation is proposed to partially mitigate the potential adverse impact of the Pacific Connector Pipeline Project on LSR 227 on the Rogue River National Forest. This is a plan level amendment that would change future management direction for the lands reallocated from Matrix to LSR.

The 36 CFR 219 planning rule requirements that are likely to be directly related to this amendment include:

§ 219.8(a)(1)(i)—[the plan must include plan components to maintain or restore] Interdependence of terrestrial and aquatic ecosystems in the plan area.

§ 219.8(b)(1)—[the plan must include plan components to guide the plan area's contribution to social and economic sustainability] Social, cultural and economic conditions relevant to the area influenced by the plan.

§ 219.9(b)(1) The responsible official shall determine whether or not the plan components required by paragraph (a) of this section provide the ecological conditions necessary to: Contribute to the recovery of federally listed threatened and endangered species, conserve proposed and candidate species, and maintain a viable population of each species of conservation concern within the plan area, and

§ 219.9(a)(2)(ii)- [the plan must include plan components to maintain or restore: . . .] (ii) Rare aquatic and terrestrial plant and animal communities.

If any of the proposed amendments to the Rogue River NF LRMP described above are determined to be “directly related” to a substantive rule requirement, the Responsible Official must apply that requirement within the scope and scale of the proposed amendment and, if necessary, make adjustments to the proposed amendment to meet the rule requirement (36 CFR 219.13 (b)(5) and (6)).

Amendment of the Winema National Forest LRMP

WNF-1—Project -Specific Amendment To Allow Pacific Connector Pipeline Project in Management Area 3

The Winema National Forest LRMP would be amended to change the Standards and Guidelines for Management Area 3 (MA-3) (LRMP page 4-103-4, Lands) to allow the 95-foot-wide Pacific Connector pipeline project in MA-3 from the Forest Boundary in Section 32, T.37S., R.5E., W.M., OR, to the Clover Creek Road corridor in Section 4, T.38S, R.5. E., W.M., OR. Standards and Guidelines for MA-3 state that the area is currently an avoidance area for new utility corridors. This proposed Pacific Connector Pipeline Project is approximately 1.5 miles long and occupies approximately 17 acres within MA-3. The amendment would provide an exception from these standards for the Pacific Connector Pipeline Project and include specific mitigation measures and project design requirements. This is a project-specific plan amendment applicable only to the Pacific Connector Pipeline Project and would not change future management direction for any other project.

The 36 CFR 219 planning rule requirements that are likely to be directly related to this amendment include:

§ 219.10(a)(1)—[the responsible official shall consider] Aesthetic values,. . . scenery,. . . viewsheds. . ..

§ 219.10(b)(i)—[the responsible official shall consider] Sustainable recreation; including recreation settings, opportunities, . . . and scenic character . . . .

WNF-2—Project-Specific Amendment of VQO on the Dead Indian Memorial Highway

The Winema National Forest LRMP would be amended to allow 10-15 years to achieve the VQO of Foreground Retention where the Pacific Connector right-of-way crosses the Dead Indian Memorial Highway at approximately pipeline MP 168.8 in Section 33, T.37S., R.5E., W. M., OR. Standards and Guidelines for Scenic Management, Foreground Retention (LRMP 4-103, MA 3A, Foreground Retention) requires VQOs for a given location be achieved within one year of completion of the project. The Forest Service proposes to allow 10-15 years to meet the specified VQO at this location. The amendment would provide an exception from these standards for the Pacific Connector Pipeline Project and include specific mitigation measures and project design requirements for the project. This is a project-specific plan amendment that would apply only to the Pacific Connector Pipeline Project in the vicinity of the Dead Indian Memorial Highway and would not change future management direction for any other project.

The 36 CFR 219 planning rule requirements that are likely to be directly related to this amendment include:

§ 219.10(a)(1)—[. . .the responsible official shall consider: . . .] (1) Aesthetic values,. . . scenery,. . . viewsheds . . . .

§ 219.10(b)(i)—[the responsible official shall consider] Sustainable recreation; including recreation settings, opportunities, . . . and scenic character . . . .

WNF-3—Project—Specific Amendment of VQO Adjacent to the Clover Creek Road

The Winema National Forest LRMP would be amended to allow 10-15 years to meet the VQO for Scenic Management, Foreground Partial Retention, where the Pacific Connector right-of-way is adjacent to the Clover Creek Road from approximately pipeline MP 170 to 175 in Sections 2, 3, 4, 11, and 12, T.38S., R.5E., and Sections 7 and 18, T.38S., R.6E., W.M., OR. This change would potentially affect approximately 50 acres. Standards and Guidelines for Foreground Partial Retention (LRMP, page 4-107, MA 3B) require that VQOs be met within three years of completion of a project. The amendment would provide an exception from these standards for the Pacific Connector Pipeline Project and include specific mitigation measures and project design requirements for the project. This is a project-specific plan amendment that would apply only to the Pacific Connector Pipeline Project in the vicinity of Clover Creek Road and would not change future management direction for any other project.

The 36 CFR 219 planning rule requirements that are likely to be directly related to this amendment include:

§ 219.10(a)(1)—[. . .the responsible official shall consider: . . .] (1) Aesthetic values,. . . scenery,. . . viewsheds . . . .

§ 219.10(b)(i)—[the responsible official shall consider] Sustainable recreation; including recreation settings, opportunities, . . . and scenic character. . . .

WNF-4—Project—Specific Amendment To Exempt Limitations on Detrimental Soil Conditions Within the Pacific Connector Right-of-Way in All Management Areas

The Winema National Forest LRMP would be amended to exempt restrictions on detrimental soil conditions from displacement and compaction within the Pacific Connector right-of-way in all affected management areas. Standards and Guidelines for detrimental soil impacts in all affected management areas require that no more than 20 percent of the activity area be detrimentally compacted, puddled, or displaced upon completion of a project (LRMP page 4-73, 12-5). The amendment would provide an exception from these standards for the Pacific Connector Pipeline Project and include specific mitigation measures and project design requirements for the project. This is a project-specific plan amendment applicable only to the Pacific Connector Pipeline Project and would not change future management direction for any other project.

The 36 CFR 219 planning rule requirements that are likely to be directly related to this amendment include:

§ 219.8(a)(2)(ii)—[The plan must include plan components to maintain or restore . . .] Soils and soil productivity, including guidance to reduce soil erosion and sedimentation

WNF-5—Project-Specific Amendment To Exempt Limitations on Detrimental Soil Conditions Within the Pacific Connector Right-of-Way in Management Area 8

The Winema National Forest LRMP would be amended to exempt restrictions on detrimental soil conditions from displacement and compaction within the Pacific Connector right-of-way within the Management Area 8, Riparian Area (MA-8). This change would potentially affect approximately 0.5 mile or an estimated 9.6 acres of MA-8. Standards and Guidelines for Soil and Water, MA-8 require that not more than 10 percent of the total riparian zone in an activity area be in a detrimental soil condition upon the completion of a project (LRMP page 4-137, 2). The amendment would provide an exception from these standards for the Pacific Connector Pipeline Project and include specific mitigation measures and project design requirements for the project. This is a project-specific plan amendment applicable only to the Pacific Connector Pipeline Project and would not change future management direction for any other project.

The 36 CFR 219 planning rule requirements that are likely to be directly related to this amendment include:

§ 219.8(a)(2)(ii)—[The plan must include plan components to maintain or restore . . .] “Soils and soil productivity, including guidance to reduce soil erosion and sedimentation”

If any of the proposed amendments to the Winema NF LRMP described above are determined to be directly related to a substantive rule requirement, the Responsible Official must apply that requirement within the scope and scale of the proposed amendment and, if necessary, make adjustments to the proposed amendment to meet the rule requirement (36 CFR 219.13 (b)(5) and (6)).

[FR Doc. 2017-13271 Filed 6-23-17; 8:45 am]

BILLING CODE 6717-01-P